DEPARTMENT OF COMMERCE

International Trade Administration

Application for Duty-Free Entry of Scientific Instruments

Pursuant to Section 6(c) of the Educational, Scientific and Cultural Materials Importation Act of 1966 (Pub. L. 89-651; as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce 14th and Constitution Ave., NW, Room 2104 Washington, D.C. 20230. Applications may be examined between 8:30 A.M. and 5:00 P.M. in Room 2104, U.S. Department of Commerce.

Docket Number: 08-032. Applicant: University of Maryland, Institute for Research in Electronics and Applied Physics, Energy Research Building #223, College Park, MD 20742. Instrument: Atomic Layer Deposition System. Manufacturer: Beneq Oy, Finland. Intended Use: The instrument is intended to be used to fabricate ultra thin, nanometer- or atomic-scale films of insulators and metals for unique nanodevices and nanostructures. The films will be evaluated for their purity, optical and electrical properties and their suitability for applications ranging from nanoscale electronics, optics and sensing devices and circuits. This instrument must be able to accommodate a variety of substrates of dissimilar sizes and shapes, including medical implants and flexible integrated circuits. The instrument must also be able to accommodate 3-D samples and must have a minimum of six sources per reactor. Application accepted by Commissioner of Customs: June 25, 2008.

Docket Number: 08-036. Applicant: University of Maryland, 1220 Physics Department, College Park, MD 20742. Instrument: Low Temperature Near Field Confocal Optical Microscope. Manufacturer: Nanonics Imaging Ltd, Israel. Intended Use: The instrument is intended to be used to investigate fundamental physics properties and device applications of a variety of precisely engineered nanoscale structures. The following features are essential in performing the above mentioned research: simultaneous NSOM/AFM/Confocal imaging, normal force sensing open system architecture (transmission, reflection and collection modes), temperature continuously adjustable from 8K to 300K, 5x10¯8 Torr high vacuum capability, large scanning range (50µ*m in the Z direction), fine NSOM spatial resolution (~50nm), multi-probe capability for independent pump probe measurement control, fast temporal resolution (~300fs). Application accepted by Commissioner of Customs: July 15, 2008.

Docket Number: 08-038. Applicant: Washington State University, 100 Dairy Road, Pullman, Washington 99164-7040. Instrument: Piezoelectric Microarray Spotter. Manufacturer: Scienion AG, Germany. Intended Use: The instrument is intended to be used to construct the microarrays needed to conduct research on the comparative genomics and comparative transcriptomics of bacterial pathogens. A unique feature of this instrument is that it is a non-contact spotter to avoid interference from dust and sensitivity to shifts in relative humidity. The instrument must also be able to be used as a liquid handling robot. Application accepted by Commissioner of Customs: July 16, 2008.

Docket Number: 08-039. Applicant: University of Michigan-Dearborn, 4901 Evergreen Road, Room 207 CIS, Dearborn, MI 48128. Instrument: X-Ray Computer Tomography System. Manufacturer: Phoenix X-Ray Inc., Germany. Intended Use: The instrument is intended to be used to study the fracture and damage mechanisms of engineering materials. Specifically, 3-D cracks and voids will be traced during a continuous loading process. A requirement for this instrument is that it have an X-ray tube power high enough to penetrate metal alloy specimens. It must also have a relatively high resolution. Application accepted by Commissioner of Customs: July 17, 2008.

Date July 29, 2008.
Faye Robinson,
Director, Statutory Import Programs Staff, Import Administration.

[FR Doc. E8-17805 Filed 8-1-08; 8:45 am]

BILLING CODE 3510-DS-S